SMALL BUSINESS ADMINISTRATION

[Declaration of Disaster #3309]

State of Oklahoma (Amendment #1)

In accordance with information received from the Federal Emergency Management Agency dated December 4, 2000, the above-mentioned Declaration is hereby amended to include Carter, Comanche, and Tillman Counties in the State of Oklahoma as a disaster area due to damages caused by severe storms and flooding beginning on October 21, 2000 and continuing through October 29, 2000.

In addition, applications for economic injury loans from small businesses located in the following contiguous counties may be filed until the specified date at the previously designated location: Cotton, Jackson, Jefferson, Johnston, Love, Marshall, and Murray Counties in Oklahoma; and Wichita and Wilbarger Counties in Texas.

Any counties contiguous to the above-named primary counties and not listed herein have been previously declared.

All other information remains the same, i.e., the deadline for filing applications for physical damage is January 26, 2001, and for economic injury the termination date is August 27, 2001.

The economic injury number for Texas is 9J8900.

(Catalog of Federal Domestic Assistance Program Nos. 59002 and 59008)
Dated: December 6, 2000.
Allan I. Hoberman,
Acting Associate Administrator for Disaster Assistance.

[FR Doc. 00-31787 Filed 12-13-00; 8:45 am]

BILLING CODE 8025-01-P